DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Wednesday, September 9, 2015, from 8 a.m. to 4:55 p.m. and Thursday, September 10, 2015, from 9 a.m. to 4:55 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463). Pursuant to 5 U.S.C. 552b and 41 CFR 102-3.140 through 102-3.165, and the availability of space, this meeting is open to the public. Seating is on a first-come basis.

The purpose of the September 9-10, 2015 meeting is to review new start research and development projects requesting Strategic Environmental Research and Development Program funds as required by the SERDP Statute, U.S. Code Title 10, Subtitle A, Part IV, Chapter 172, § 2904. The full agenda follows:

Agenda for September 9, 2015
8 a.m. | Convene/Opening Remarks | Dr. Joseph Hughes, Chair.
8:10 a.m. | Program Update | Dr. Anne Andrews, Acting Executive Director.
8:25 a.m. | Resource Conservation and Climate Change Overview | Dr. John Hall, Resource Conservation and Climate Change, Program Manager.
8:35 a.m. | 16 RC01-012 (RC-2634): Effects of Climate Change on Plague Exposure Pathways and Resulting Disease Dynamics (FY16 New Start) | Dr. Tonie Rocke, USGS National Wildlife Health Center, Madison, WI.
9:20 a.m. | 16 RC01-020 (RC-2635): Leptospirosis in Endangered Island Foxes and California Sea Lions: Outbreak Prediction and Prevention in a Changing World (FY16 New Start) | Dr. James Lloyd-Smith, University of California, Los Angeles, Los Angeles, CA.
10:05 a.m. | Break |
10:20 a.m. | 16 RC01-027 (RC-2636): Climate Changes Impacts on Fire Regimes, Plant Invasions, and Tick-Borne Diseases (FY16 New Start) | Dr. Brian Allan, University of Illinois Urbana-Champaign, Urbana, IL.
11:05 a.m. | 16 RC01-031 (RC-2637): Understanding Climatic Controls of Blacklegged Ticks and Lyme Disease: Experiments and Models to Quantify Risk in a Changing Climate (FY16 New Start) | Dr. Richard Ostfeld, Cary Institute of Ecosystem Studies, Millbrook, NY.
11:50 a.m. | Lunch |
12:50 p.m. | 16 RC01-044 (RC-2638): Effects of Climate on Host-Pathogen Interactions in Chytridiomycosis (FY16 New Start) | Dr. Corinne Richards-Zawacki, Tulane University, New Orleans, LA.
1:35 p.m. | 16 RC01-045 (RC-2639): The Role of Phenology and Phenology Change in the Transmission of Arthropod-Borne Diseases: Implications for Management on Military Lands (FY16 New Start) | Dr. Sharon Bewick, University of Maryland, College Park, College Park, MD.
2:20 p.m. | Break |
2:35 p.m. | Resource Conservation and Climate Change Overview | Dr. John Hall, Resource Conservation and Climate Change, Program Manager.
2:45 p.m. | 16 RC03-001 (RC-2644): Advancing Best Practices for the Analysis of the Vulnerability of Military Installations in the Pacific Basin to Coastal Flooding Under a Changing Climate (FY16 New Start) | Dr. John Marra, NOAA NESDIS NCEI, Honolulu, HI.
3:30 p.m. | Resource Conservation and Climate Change Overview | Dr. John Hall, Resource Conservation and Climate Change, Program Manager.
3:40 p.m. | 15 RC02-034 (RC-2546): Next-Generation Intensity-Duration-Frequency Curves Considering Spatiotemporal Non-Stationarity in Climate, Intense Precipitation Events, and Snowmelt (FY15 New Start) | Dr. Mark Wigmosta, Pacific Northwest National Laboratory, Richland, WA.
4:25 p.m. | Strategy Session | Dr. Anne Andrews, Acting Executive Director.
4:40 p.m. | Update From SERDP Climate Change Program Review and NOAA Partnership Meeting | SAB Members.
4:55 p.m. | Public Discussion/Adjourn for the day |
Agenda for September 10, 2015
9 a.m. | Convene/Opening Remarks | Dr. Joseph Hughes, Chair.
9:10 a.m. | Environmental Restoration Overview | Dr. Andrea Leeson, Environmental Restoration, Program Manager.
9:20 a.m. | 16 ER01-006 (ER-2617): Measuring and Predicting the Natural and Enhanced Rate and Capacity of Abiotic Reduction of Munition Constituents (FY16 New Start) | Dr. Pei Chiu, University of Delaware, Newark, DE.
10:05 a.m. | 16 ER01-010 (ER-2618): Compound Specific Isotope Analysis of Mineral-Mediated Abiotic Reduction of Nitro Compounds (FY16 New Start) | Dr. William Arnold, University of Minnesota, Minneapolis, MN.
10:50 a.m. | Break |
11:05 a.m. | 16 ER01-018 (ER-2619): Characterization of Enhanced Subsurface Abiotic Reactivity With Electrical Resistivity Tomography/Induced Polarization (FY16 New Start) | Dr. Jim Szecsody, Pacific Northwest National Laboratory, Richland, WA.
11:50 a.m. | Lunch |
12:20 p.m. | 16 ER01-020 (ER-2620): Emerging Core Concepts for Assessment and Enhancement of Abiotic Natural Attenuation of Groundwater Contaminants (FY16 New Start) | Dr. Paul Tratnyek, Oregon Health & Science University, Portland, OR.
1:05 p.m. | 16 ER01-029 (ER-2622): Abiotic Transformation of Chloroethenes in Low Permeability Formations (FY16 New Start) | Dr. David Freedman, Clemson University, Clemson, SC.
1:50 p.m. | Break |
2:05 p.m. | 16 ER01-027 (ER-2621): Field Assessment of Abiotic Attenuation Rates Using Chemical Reactivity Probes and Cryogenic Core Collection (FY16 New Start) | Dr. Richard Johnson, OHSU, Portland, OR.
2:50 p.m. | Weapons Systems and Platforms Overview | Dr. Robin Nissan, Weapons Systems and Platforms, Program Manager.
3 p.m. | 16 WP01-004 (WP-2600): Acoustic and Flowfield Measurements for a Military Tactical Aircraft Afterburning Turbofan Engine (FY16 New Start) | Mr. Jason Kiiskila, GE Aviation, Cincinnati, OH.
3:45 p.m. | Break |
4 p.m. | Weapons Systems and Platforms Overview | Dr. Robin Nissan, Weapons Systems and Platforms, Program Manager.
4:10 p.m. | 16 WP03-002 (WP-2604): Alternative Mixing Technology for Environmentally Friendly Plastic Bonded Explosive Formulations (FY16 New Start) | Dr. Eric Beckel, U.S. Army ARDEC, Picatinny Arsenal, NJ.
4:55 p.m. | Public Discussion/Adjourn |

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/. Time is allotted at the close of each meeting day for the public to make comments. Oral comments are limited to 5 minutes per person.

Dated: August 11, 2015.
Aaron Siegel,
Alternate OSD Federal Register Liaison Officer, Department of Defense.

[FR Doc. 2015-20066 Filed 8-13-15; 8:45 am]

BILLING CODE 5001-06-P